Title 3—

The President

Proclamation 10044 of May 29, 2020

African-American Music Appreciation Month, 2020

By the President of the United States of America

A Proclamation

The lyrics and melodies of African-American music have played a powerful role in defining America's unique soundscape. From the soulful streets of the Big Easy to the recording studios of Los Angeles, African-American music has shaped our American culture. During African-American Music Appreciation Month, we pay tribute to the monumental achievements of African-American artists who pioneered and evolved the blues, jazz, gospel, rock and roll, rap, hip-hop, and other iconic genres.

Throughout our Nation's history, African-American music has expressed the pain and suffering brought on by injustice as well as the faith and joy of the resilient American spirit. Sam Cooke's triumphant “A Change Is Gonna Come” gave wind to the sails of millions of African Americans in their righteous fight for equality during the Civil Rights Movement. The divine voice of Mahalia Jackson, the “Queen of Gospel,” helped heal our grieving Nation in the days following the assassination of Martin Luther King, Jr. At major sporting events, African-American musical icons, such as Whitney Houston and Ray Charles, have captivated America with striking renditions of patriotic ballads such as the National Anthem and “America the Beautiful.” This month, we lost the Architect of Rock and Roll, Richard Wayne Penniman—better known and beloved as Little Richard—who is responsible for breaking down racial barriers through the universal love of his music. He was an unforgettable entertainer, an innovator, and an American icon. Our Nation mourns his passing.

This month, we express our appreciation for the countless contributions of African-American singers, songwriters, and musicians, whose remarkable talents continue to inspire the soul of our Nation. With classic guitar riffs, memorable hymns, and uplifting beats, the works of African-American artists undeniably represent true musical excellence.

NOW, THEREFORE, I, DONALD J. TRUMP, President of the United States of America, by virtue of the authority vested in me by the Constitution and the laws of the United States, do hereby proclaim June 2020 as African-American Music Appreciation Month. I call upon public officials, educators, and all the people of the United States to observe this month with appropriate activities and programs that raise awareness and appreciation of African-American music.

IN WITNESS WHEREOF, I have hereunto set my hand this twenty-ninth day of May, in the year of our Lord two thousand twenty, and of the Independence of the United States of America the two hundred and forty-fourth.

[FR Doc. 2020-12415

Filed 6-4-20; 11:15 am]

Billing code 3295-F0-P